DEPARTMENT OF COMMERCE

Foreign-Trade Zones Board

[Docket 5-2012]

Application for Manufacturing Authority, Liberty Pumps, Inc. (Submersible and Water Pumps), Bergen, NY

An application has been submitted to the Foreign-Trade Zones Board (the Board) by the Genesee Gateway Local Development Corporation, the proposed grantee of a new foreign-trade zone planned for Genesee County, New York (see Docket 69-2011, 76 FR 67672, 11-2-2011), requesting manufacturing authority on behalf of Liberty Pumps, Inc., located in Bergen, New York. The application was submitted pursuant to the provisions of the Foreign-Trade Zones Act, as amended (19 U.S.C. 81a-81u), and the regulations of the Board (15 CFR part 400). It was formally filed on January 12, 2012.

The Liberty Pumps, Inc., facility (108 employees, 9.1 acres, production capacity—300,000 pumps/year) is located at 7000 Appletree Avenue in Bergen (Genesee County), within Site 1 of the proposed new zone. The facility is used for the manufacturing of submersible and water pumps, including drain pumps, effluent pumps, condensate pumps, and sewage pumps. Components and materials sourced from abroad (representing 30 to 40% of the value of the finished pumps) include: Plastic (polyamide) resins, plastic boxes/cases/tanks, articles of plastic, rubber gaskets/seals, labels, wood pallets, fiberglass, fasteners, cast iron parts, articles of iron/steel, aluminum castings, parts of pumps, valves, mechanical seals, electric motors, transformers, capacitors, switches, electronic components, integrated circuits, process controllers, printed circuit assemblies, electrical components, and measuring instruments (duty rates range from free to 10.7%).

FTZ procedures could exempt Liberty Pumps from customs duty payments on the foreign components used in export production. The company anticipates that 12 to 18 percent of the facility's shipments will be exported. On its domestic sales, Liberty Pumps would be able to choose the duty rate during customs entry procedures that applies to submersible and water pumps (duty rate—free) for the foreign inputs noted above. FTZ designation would further allow Liberty Pumps to realize logistical benefits through the use of weekly customs entry procedures. Customs duties also could possibly be deferred or reduced on foreign status production equipment. Liberty Pumps would also be exempt from duty payments on foreign inputs that become scrap during the production process. The request indicates that the savings from FTZ procedures would help improve the plant's international competitiveness.

In accordance with the Board's regulations, Pierre Duy of the FTZ Staff is designated examiner to evaluate and analyze the facts and information presented in the application and case record and to report findings and recommendations to the Board.

Public comment is invited from interested parties. Submissions (original and 3 copies) shall be addressed to the Board's Executive Secretary at the address below. The closing period for their receipt is March 20, 2012. Rebuttal comments in response to material submitted during the foregoing period may be submitted during the subsequent 15-day period to April 4, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz.

For further information, contact Pierre Duy at Pierre.Duy@trade.gov or (202) 482-1378.

Dated: January 12, 2012.
Andrew McGilvray,
Executive Secretary.

[FR Doc. 2012-1104 Filed 1-19-12; 8:45 am]

BILLING CODE P